DEPARTMENT OF STATE

[Public Notice 7321]

Department of State FY10 Service Contract Inventory

AGENCY: Department of State.

ACTION: Notice of the release of the Department of State FY10 Service Contract Inventory.

SUMMARY: The Department of State has publically released its Service Contract Inventory for FY10. Section 743 of Division C of the FY 2010 Consolidated Appropriations Act, Public Law 111-117, requires Department of State, and other civilian agencies, to submit an annual inventory of service contracts. A service contract inventory is a tool for assisting an agency in better understanding how contracted services are being used to support mission and operation, and whether the contractors' skills are being utilized in an appropriate manner. The Department followed OMB guidance, provided by memorandum titled `Service Contract Inventories', to prepare the inventory.

DATES: The inventory is available on the Department's Web site as of Jan 31, 2011.

FOR FURTHER INFORMATION CONTACT: Jason Passaro, Director, A/CSM, 703-875-5114, passaroja@state.gov.

Dated: February 3, 2011.
Jason Passaro,
Director, A/CSM, Department of State.

[FR Doc. 2011-3615 Filed 2-16-11; 8:45 am]

BILLING CODE 4710-24-P